DEPARTMENT OF TRANSPORTATION

Pipeline and Hazardous Materials Safety Administration

[Docket No. PHMSA-2010-0016]

Pipeline Safety: Requests for Special Permit

AGENCY: Pipeline and Hazardous Materials Safety Administration (PHMSA); DOT.

ACTION: Notice.

SUMMARY: PHMSA is publishing this notice of special permit requests we have received from two pipeline operators, seeking relief from compliance with certain requirements in the Federal pipeline safety regulations. This notice seeks public comments on these requests, including comments on any safety or environmental impacts. At the conclusion of the 30-day comment period, PHMSA will evaluate each request and determine whether to grant or deny a special permit.

DATES: Submit any comments regarding these special permit requests by February 25, 2010.

ADDRESSES: Comments should reference the docket numbers for the specific special permit requests and may be submitted in the following ways:

• E-Gov Web Site: http://www.Regulations.gov. This site allows the public to enter comments on any Federal Register notice issued by any agency.

• Fax: 1-202-493-2251.

• Mail: Docket Management System: U.S. Department of Transportation, Docket Operations, M-30, West Building Ground Floor, Room W12-140, 1200 New Jersey Avenue, SE., Washington, DC 20590.

• Hand Delivery: DOT Docket Management System: U.S. Department of Transportation, Docket Operations, M-30, West Building Ground Floor, Room W12-140, 1200 New Jersey Avenue, SE, Washington, DC 20590, between 9:00 a.m. and 5:00 p.m., Monday through Friday, except Federal holidays.

Instructions: You should identify the docket number for the special permit request you are commenting on at the beginning of your comments. If you submit your comments by mail, please submit two copies. To receive confirmation that PHMSA has received your comments, please include a self-addressed stamped postcard. Internet users may submit comments at http://www.Regulations.gov. Note: Comments are posted without changes or edits to http://www.Regulations.gov, including any personal information provided.

Privacy Act Statement: Anyone can search the electronic form of comments received in response to any of our dockets by the name of the individual submitting the comment (or signing the comment, if submitted on behalf of an association, business, labor union, etc.). DOT's complete Privacy Act Statement was published in the Federal Register on April 11, 2000 (65 FR 19477).

FOR FURTHER INFORMATION CONTACT: General: Kay McIver by telephone at (202) 366-0113; or, e-mail at kay.mciver@dot.gov.

Technical: Steve Nanney by telephone at (713) 272-2855; or, e-mail at steve.nanney@dot.gov.

SUPPLEMENTARY INFORMATION: PHMSA has received these requests for special permits from pipeline operators who seek relief from compliance with certain pipeline safety regulations. Each request is filed in the Federal Docket Management System (FDMS) and has been assigned a separate docket number in the FDMS. Each docket includes any technical analysis or other supporting documentation provided by the requestor, including a description of any alternative measures the operator proposes to take in lieu of compliance with the current regulations. We invite interested persons to participate by reviewing these special permit requests at http://www.Regulations.gov, and by submitting written comments, data or other views. Please include any comments on potential environmental impacts that may result if these special permits are granted.

Before acting on these special permit requests, PHMSA will evaluate all comments received on or before the comments closing date. Comments will be evaluated after this date if it is possible to do so without incurring additional expense or delay. PHMSA will consider each relevant comment we receive in making our decision to grant or deny a request and what terms and conditions are appropriate.

PHMSA has received the following two special permit requests:

Docket No. | Requester | Regulation(s) | Nature of special permit
PHMSA-2009-0390 | Colonial Pipeline Company | 49 CFR 195.310(b) | Colonial Pipeline Company requests relief from certain recordkeeping requirements for two segments of Line 01. Colonial Pipeline Company operates 1,049 miles of 40-inch and 36-inch diameter steel pipeline that runs from Houston, Texas to Greensboro, North Carolina. The segments of request include approximately 66 miles of 40-inch pipeline in LA, and 10 miles of 36-inch pipeline in GA, for which Colonial can no longer locate certain pressure recording charts and calibration data from the original construction hydrostatic testing of the pipeline. These original construction hydrostatic tests were conducted more than thirty years ago. The application is for a special permit to waive the requirement to have retained the pressure recording charts and certain other pressure test data.
PHMSA-2009-0407 | Union Oil of California (Chevron) | 49 CFR 195.452(h)(3) and 195.452(h)(4)(iii) | Union Oil of California requests a waiver to the 180-day repair requirement for a riser which is part of the Anna platform “A” pipeline. The Anna platform “A” pipeline terminates at the Bruce platform riser located in Kenai Borough, Alaska on the Cook Inlet, a navigable waterway. The Bruce platform riser, for which the special permit is sought, is a 12-inch OD riser, constructed of .500 inch wall thickness, ASTM A53 grade B material with coating of unknown origin. The riser was constructed in 1967. Union Oil of California conducted an in-line inspection in 2008. The results demonstrated a 64% wall loss. Union Oil of California requests a waiver from repairs due to the inaccessibility of the repair location, the MOP, and the remaining 36% original wall thickness. Union Oil of California proposes alternative measures to mitigate the wall thickness loss. These measures include re-inspection of the 12-inch pipeline riser location in 2010.

Authority: 49 U.S.C. 60118(c)(1) and 49 CFR 1.53.

Issued in Washington, DC, on January 19, 2010.
Jeffrey D. Wiese,
Associate Administrator for Pipeline Safety.

[FR Doc. 2010-1470 Filed 1-25-10; 8:45 am]

BILLING CODE 4910-60-P